CONSUMER PRODUCT SAFETY COMMISSION

[Docket No. CPSC-2010-0112]

Agency Information Collection Activities; Proposed Collection; Comment Request; Contests, Challenges, and Awards

AGENCY: Consumer Product Safety Commission.

ACTION: Notice.

SUMMARY: As required by the Paperwork Reduction Act of 1995, the Consumer Product Safety Commission (CPSC or Commission) requests comments on a proposed extension of approval of a generic collection of information for CPSC-sponsored contests, challenges, and awards approved previously under OMB Control No. 3041-0151. The Commission will consider all comments received in response to this notice before requesting an extension of this collection of information from the Office of Management and Budget (OMB).

DATES: Submit written or electronic comments on the collection of information by August 25, 2017.

ADDRESSES: You may submit comments, identified by Docket No. CPSC-2010-0112, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: mail/hand delivery/courier to: Office of the Secretary, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2010-0112, into the “Search” box, and follow the prompts.

FOR FURTHER INFORMATION CONTACT: Charu Krishnan, Consumer Product Safety Commission, 4330 East-West Highway, Bethesda, MD 20814; (301) 504-7221, or by email to: CKrishnan@cpsc.gov.

SUPPLEMENTARY INFORMATION: CPSC seeks to renew the following currently approved generic collection of information:

Title: Contests, Challenges, and Awards.

OMB Number: 3041-0151.

Type of Review: Renewal of generic collection.

Frequency of Response: On occasion.

Affected Public: Contestants, award nominees, award nominators.

Estimated Number of Respondents: 500 participants annually. In addition, 20 participants may be required to provide additional information upon selection.

Estimated Time per Response: 5 hours/participant. 20 participants may require 2 additional hours each to provide additional information upon selection.

Total Estimated Annual Burden: 2,540 hours (500 participants × 5 hours/participant) + (20 participants × 2 hours/participant).

General Description of Collection: The Commission establishes contests, challenges, and awards to increase the public's knowledge and awareness of safety hazards, such as carbon monoxide poisoning. The Commission also recognizes those individuals, firms, and organizations that work to address issues related to consumer product safety through awards.

Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic or other technological collection techniques, or other forms of information technology.

Dated: June 21, 2017.
Todd A. Stevenson,
Secretary, Consumer Product Safety Commission.

[FR Doc. 2017-13300 Filed 6-23-17; 8:45 am]

BILLING CODE 6355-01-P